DEPARTMENT OF ENERGY

Federal Energy Regulatory Commission

[Project No. 405-068]

Susquehanna Power Company and PECO Energy Power Company; Notice of Availability of Environmental Assessment

August 9, 2006.

In accordance with the National Environmental Policy Act of 1969 and the Federal Energy Regulatory Commission's regulations, 18 CFR part 380 (Order No. 486, 52 FR 47879), the Office of Energy Projects has reviewed an application for non-project use of project lands and waters and has prepared an environmental assessment (EA) for public review. The licensees seek Commission approval to permit use of the Conowingo Hydroelectric Project, FERC No. 405, reservoir and lands to withdraw and discharge water. The EA analyzes the environmental impacts of the proposed water withdrawal and discharge. The project is located on the Susquehanna River in Hartford and Cecil Counties in Maryland, and York and Lancaster Counties in Pennsylvania.

The EA was written by staff in the Office of Energy Projects, Federal Energy Regulatory Commission (Commission). A copy of the EA is attached to a Commission order titled “Order Modifying and Approving Non-Project Use of Project Lands and Waters” issued August 8, 2006 and is available for review at the Commission or may be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659.

Any comments on the EA should be filed within 30 days from the issuance date of this notice, and should be addressed to the Secretary, Federal Energy Regulatory Commission, 888 First Street NE., Room 1-A, Washington, DC 20426. Please affix “Conowingo Project No. 405-068” to all comments. Comments may be filed electronically via Internet in lieu of paper filings. The Commission strongly encourages electronic filings. See 18 CFR 385.20011(a)(1) (iii) and the instructions on the Commission's Web site under the “eFiling” link.

Magalie R. Salas,
Secretary.

[FR Doc. E6-13370 Filed 8-15-06; 8:45 am]

BILLING CODE 6717-01-P